DEPARTMENT OF ENERGY

Federal Energy Regulatory Commission

Combined Notice of Filings #2

Take notice that the Commission received the following exempt wholesale generator filings:

Docket Numbers: EG16-107-000.

Applicants: Eastern Shore Solar LLC.

Description: Eastern Shore Solar, LLC submits Notice of Self-Certification of Exempt Wholesale Generator Status.

Filed Date: 5/25/16.

Accession Number: 20160525-5102.

Comments Due: 5 p.m. ET 6/15/16.

Take notice that the Commission received the following electric rate filings:

Docket Numbers: ER13-2109-005; ER13-2106-005; ER13-2100-001; ER13-321-005; ER13-434-004; ER16-1750-001.

Applicants: Fowler Ridge Wind Farm LLC, NedPower Mount Storm, LLC, Virginia Electric and Power Company, Fairless Energy, LLC, Dominion Energy Marketing, Inc., Eastern Shore Solar LLC.

Description: Notice of Change in Status and Request for Confidential Treatment of the Dominion Companies, et al.

Filed Date: 5/25/16.

Accession Number: 20160525-5111.

Comments Due: 5 p.m. ET 6/15/16.

Docket Numbers: ER16-1781-000.

Applicants: Tucson Electric Power Company.

Description: § 205(d) Rate Filing: Concurrence to APS RS No. 32 to be effective 7/19/2016.

Filed Date: 5/25/16.

Accession Number: 20160525-5072.

Comments Due: 5 p.m. ET 6/15/16.

Docket Numbers: ER16-1782-000.

Applicants: Arizona Public Service Company.

Description: § 205(d) Rate Filing: Service Agreement No. 355 to be effective 5/3/2016.

Filed Date: 5/25/16.

Accession Number: 20160525-5075.

Comments Due: 5 p.m. ET 6/15/16.

Docket Numbers: ER16-1783-000.

Applicants: ITC Midwest LLC.

Description: § 205(d) Rate Filing: Filing of CIAC Agreement with MidAmerican to be effective 6/1/2016.

Filed Date: 5/25/16.

Accession Number: 20160525-5105.

Comments Due: 5 p.m. ET 6/15/16.

Docket Numbers: ER16-1784-000.

Applicants: PJM Interconnection, L.L.C.

Description: § 205(d) Rate Filing: Service Agreement Nos. 937, Third Revised, and 4463, Original Queue No. Z2-108 to be effective 4/25/2016.

Filed Date: 5/25/16.

Accession Number: 20160525-5126.

Comments Due: 5 p.m. ET 6/15/16.

Docket Numbers: ER16-1785-000.

Applicants: New York Independent System Operator, Inc.

Description: § 205(d) Rate Filing: Operating Agreement between NYISO and Transco to be effective 5/23/2016.

Filed Date: 5/25/16.

Accession Number: 20160525-5141.

Comments Due: 5 p.m. ET 6/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2016.
Nathaniel J. Davis, Sr.,
Deputy Secretary.

[FR Doc. 2016-12845 Filed 5-31-16; 8:45 am]

BILLING CODE 6717-01-P